NUCLEAR REGULATORY COMMISSION

10 CFR Part 50

[Docket No. PRM-50-85]

Eric Epstein, Three Mile Island Alert, Inc.; Receipt of Petition for Rulemaking

AGENCY: Nuclear Regulatory Commission.

ACTION: Petition for rulemaking; notice of receipt.

SUMMARY: The Nuclear Regulatory Commission (NRC) is publishing for public comment a notice of receipt of a petition for rulemaking, dated April 11, 2007, which was filed with the Commission by Eric Epstein. The petition was docketed by the NRC on April 17, 2007, and has been assigned Docket No. PRM-50-85. The petitioner requests that the NRC amend its regulations regarding emergency preparedness to require that all host school pick-up centers be at a minimum distance of five to ten miles beyond the radiation plume exposure boundary zone to ensure that all school children are protected in the event of a radiological emergency.

DATES: Submit comments by September 24, 2007. Comments received after this date will be considered if it is practical to do so, but the Commission is able to assure consideration only for comments received on or before this date.

ADDRESSES: You may submit comments by any one of the following methods. Please include PRM-50-85 in the subject line of your comments. Comments on petitions submitted in writing or in electronic form will be made available for public inspection. Because your comments will not be edited to remove any identifying or contact information, the NRC cautions you against including any information in your submission that you do not want to be publicly disclosed.

Mail comments to: Secretary, U.S. Nuclear Regulatory Commission, Washington, DC 20555-0001, ATTN: Rulemakings and Adjudications Staff.

E-mail comments to: SECY@nrc.gov. If you do not receive a reply e-mail confirming that we have received your comments, contact us directly at (301) 415-1966. You may also submit comments via the NRC's rulemaking Web site at http://ruleforum.llnl.gov. Address questions about our rulemaking Web site to Carol Gallagher (301) 415-5905; e-mail cag@nrc.gov. Comments can also be submitted via the Federal eRulemaking Portal http://www.regulations.gov.

Hand deliver comments to: 11555 Rockville Pike, Rockville, Maryland 20852, between 7:30 a.m. and 4:15 p.m. Federal workdays (telephone (301) 415-1966).

Fax comments to: Secretary, U.S. Nuclear Regulatory Commission at (301) 415-1101.

Publicly available documents related to this petition may be viewed electronically on the public computers located at the NRC's Public Document Room (PDR), Room O1 F21, One White Flint North, 11555 Rockville Pike, Rockville, Maryland. The PDR reproduction contractor will copy documents for a fee. Selected documents, including comments, may be viewed and downloaded electronically via the NRC rulemaking Web site at http://ruleforum.llnl.gov.

Publicly available documents created or received at the NRC after November 1, 1999, are available electronically at the NRC's Electronic Reading Room at http://www.nrc.gov/reading-rm/adams.html. From this site, the public can gain entry into the NRC's Agencywide Document Access and Management System (ADAMS), which provides text and image files of NRC's public documents. If you do not have access to ADAMS or if there are problems in accessing the documents located in ADAMS, contact the PDR Reference staff at 1-800-397-4209, 301-415-4737 or by e-mail to pdr@nrc.gov.

FOR FURTHER INFORMATION CONTACT: Michael T. Lesar, Chief, Rulemaking, Directives and Editing Branch, Division of Administrative Services, Office of Administration, U.S. Nuclear Regulatory Commission, Washington, DC 20555-0001, Telephone: 301-415-7163 or Toll Free: 800-368-5642.

SUPPLEMENTARY INFORMATION:

The Petitioner

The petitioner is Eric Epstein, Chairman of Three Mile Island Alert, Inc. The petitioner states that Three Mile Island Alert, Inc., was founded in 1977 and is a safe-energy organization based in Harrisburg, Pennsylvania. Three Mile Island Alert, Inc., monitors Peach Bottom, Susquehanna, and Three Mile Island nuclear generating stations.

The Proposed Amendments

The petitioner believes that current NRC, Department of Homeland Security (DHS), and Federal Emergency Management Agency (FEMA) emergency planning requirements fail to meet the safety needs of all school children. Further, the petitioner believes that the current planning requirements of these agencies do not establish a reasonable standard for offsite relocation distances that adequately protects the public's health and safety.

The petitioner seeks to clarify NRC, DHS, and FEMA relocation requirements and requests that NRC promulgate and codify relevant regulations pertaining to radiological emergency readiness planning. The petitioner requests that NRC mandate that all host school pick-up centers be at a minimum distance of five to ten miles beyond the radiation plume exposure boundary zone, and has attached several exhibits to the petition to support this proposal. The support material includes information from the West Shore School District; maps and news articles; data from NRC's NUREG-0654, FEMA-REP-1; and other statements and exhibits.

Conclusion

The petitioner states that there is a regulatory gap, and an absence of minimum distance requirements, for host school pick-up centers in relation to radiation plume exposure boundary lines. The petitioner believes that allowing host school pick-up centers to be just outside of the 10-mile radiation plume exposure boundary zone fails to meet the safety needs of school children. The petitioner also believes that the proposed change in current regulations is necessary in order to ensure that all school children are properly protected in the event of a radiological emergency. Accordingly, the petitioner requests that the NRC amend its regulations related to emergency preparedness as described previously in the section titled, “The Proposed Amendments.”

Dated at Rockville, Maryland, this 3rd day of July, 2007.
For the Nuclear Regulatory Commission.
Annette Vietti-Cook,
Secretary of the Commission.

[FR Doc. E7-13316 Filed 7-9-07; 8:45 am]

BILLING CODE 7590-01-P